DEPARTMENT OF ENERGY

Federal Energy Regulatory Commission

[Project No. 2000-010]

New York Power Authority; Notice of Proposed Restricted Service List for a Programmatic Agreement for Managing Properties Included in or Eligible for Inclusion in the National Register of Historic Places

April 14, 2000.

Rule 2010 of the Federal Energy Regulatory Commission's (Commission) Rules of Practice and Procedure provides that, to eliminate unnecessary expense or improve administrative efficiency, the Secretary may establish a restricted service list for a particular phase or issue in a proceeding.¹ The restricted service list should contain the names of persons on the service list who, in the judgment of the decisional authority establishing the list, are active participants with respect to the phase or issue in the proceeding for which the list is established.

¹ 18 CFR 385.2010.

The Commission staff is consulting with the New York State Historic Preservation Officer (hereinafter, SHPO) and the Advisory Council on Historic Preservation (hereinafter, Council) pursuant to the Council's regulations, 36 CFR Part 800, implementing Section 106 of the National Historic Preservation Act, as amended (16 U.S.C. Section 470 f), to prepare a Programmatic Agreement for managing properties included in, or eligible for inclusion in, the National Register of Historic Places at the St. Lawrence-FDR Power Project (Project No. 2000-010).

The Programmatic Agreement, when executed by the Commission, the SHPO, and the Council, would satisfy the Commission's section 106 responsibilities for all individual undertakings, carried out in accordance with the license until the license expires or is terminated (36 CFR 800.14). The Commission's responsibilities pursuant to Section 106 for the above project would be fulfilled through the Programmatic Agreement, which the Commission proposes to draft in consultation with certain parties listed below. The executed Programmatic Agreement would be incorporated into any Order issuing license.

The New York Power Authority, as prospective licensee for Project No. 2000-010, is invited to participate in consultations to develop the Programmatic Agreement and to sign as a concurring party to the Programmatic Agreement.

For purposes of commenting on the Programmatic Agreement, we propose to restrict the service list for the St. Lawrence-FDR Power Project as follows:

Ms. Salli Benefict, Mohawk Nation Council, Box 35, Rooseveltown, NY 13683

Mr. David Blaha, Environmental Resources Management, 2666 Riva Road, Suite 200, Annapolis, MD 21401

Ms. Maxine Cole, Akwesasne Task Force on the Environment, P.O. Box 992, Hogansburn, NY 13655

Dr. Laura Henley Dean, Advisory Council on Historic Preservation, The Old Post Office Building, Suite 803, 1100 Pennsylvania Avenue, NW, Washington, D.C. 20004

Mr. Robert Dean, Dean & Barbour, P.O. Box 176, Old Route 17, Steamburg, NY 14783

Mr. Ken Jock, St. Regis Mohawk Tribal Council, RR#1, Box 8A, Hogansburn, NY 13655

Dr. Robert Kuhn, New York Office of Parks, Recreation, and Historic Preservation, Peebles Island, P.O. Box 189, Waterford, NY 12188-0189

Mr. Henry Lickers, Mohawk Council of Akwesasne, P.O. Box 579, Cornwall, Ontario K6H 5T3

Mr. William Slade, New York Power Authority, 123 Main Street, White Plains, NY 10601

Mr. Thomas Tatham, New York Power Authority, 1633 Broadway, 22-C, New York, NY 10019-6756

Mr. James Teitt, Environmental Resources Management, 355 East Campus View Blvd., Suite 250, Columbus, OH 43235

Any person on the official Service List for the above-captioned proceedings may request inclusion on the restricted service list, or may request that a restricted service list not be established, by filing a motion to that effect within 15 days of this notice date.

An original and 8 copies of any such motion must be filed with the Secretary of the Commission (888 First Street, NE, Washington, DC 20426) and must be served on each person whose name appears on the official Service list. If no such motions are filed, the restricted service list will be effective at the end of the 15 day period. Otherwise, a further notice will be issued ruling on the motion.

David P. Boergers,
Secretary.

[FR Doc. 00-9867 Filed 4-19-00; 8:45 am]

BILLING CODE 6717-01-M